DEPARTMENT OF ENERGY

Federal Energy Regulatory Commission

Combined Notice of Filings #1

Take notice that the Commission received the following electric corporate filings:

Docket Numbers: EC18-34-000.

Applicants: MDU Resources Group, Inc.

Description: Application of MDU Resources Group, Inc. for Authorization under FPA Section 203 and Request for Confidential Treatment.

Filed Date: 12/15/17.

Accession Number: 20171215-5228.

Comments Due: 5 p.m. ET 1/5/18.

Take notice that the Commission received the following electric rate filings:

Docket Numbers: ER10-2126-004.

Applicants: Idaho Power Company.

Description: Compliance filing: Compliance Filing—Revision MBR Tariff Reflect Authorized Transact in CAISO EIM to be effective 4/4/2018.

Filed Date: 12/18/17.

Accession Number: 20171218-5000.

Comments Due: 5 p.m. ET 1/8/18.

Docket Numbers: ER14-693-006.

Applicants: Entergy Services, Inc.

Description: Entergy Services, Inc. submits tariff filing per 35: LBA Compliance Errata ER14-693 12-1-2017 to be effective 12/19/2013 under ER14-693. (Replaces 20171201-5399).

Filed Date: 12/18/17.

Accession Number: 20171218-5077.

Comments Due: 5 p.m. ET 1/8/18.

Docket Numbers: ER14-694-006.

Applicants: Entergy Services, Inc.

Description: Entergy Services, Inc. submits tariff filing per 35: LBA Compliance Errata ER14-694 12-1-2017 to be effective 12/19/2013 under ER14-694. (Replaces 20171201-5397).

Filed Date: 12/18/17.

Accession Number: 20171218-5079.

Comments Due: 5 p.m. ET 1/8/18.

Docket Numbers: ER17-1014-001.

Applicants: Midcontinent Independent System Operator, Inc., Otter Tail Power Company.

Description: Compliance filing: 2017-12-18_Compliance filing re OTP Att O and 30.9 Credits to include Basin to be effective 5/1/2017.

Filed Date: 12/18/17.

Accession Number: 20171218-5112.

Comments Due: 5 p.m. ET 1/8/18.

Docket Numbers: ER17-1394-001.

Applicants: 83WI 8me, LLC.

Description: Notice of Non-Material Change in Status of 83WI 8me, LLC.

Filed Date: 12/14/17.

Accession Number: 20171214-5184.

Comments Due: 5 p.m. ET 1/4/18.

Docket Numbers: ER18-459-000.

Applicants: PJM Interconnection, L.L.C., Ohio Valley Electric Corporation.

Description: § 205(d) Rate Filing: Revisions to PJM OATT, OA and RAA re: OVEC Integration to be effective 3/1/2018.

Filed Date: 12/15/17.

Accession Number: 20171215-5205.

Comments Due: 5 p.m. ET 1/5/18.

Docket Numbers: ER18-460-000.

Applicants: PJM Interconnection, L.L.C., Ohio Valley Electric Corporation.

Description: § 205(d) Rate Filing: Revisions to CTOA re: OVEC Integration to be effective 3/1/2018.

Filed Date: 12/15/17.

Accession Number: 20171215-5209.

Comments Due: 5 p.m. ET 1/5/18.

Docket Numbers: ER18-461-000.

Applicants: California Independent System Operator Corporation.

Description: § 205(d) Rate Filing: 2017-12-15 Consolidated EIM Initiatives and Resource Modeling Enhancements to be effective 2/15/2018.

Filed Date: 12/15/17.

Accession Number: 20171215-5190.

Comments Due: 5 p.m. ET 1/5/18.

Docket Numbers: ER18-462-000.

Applicants: Midcontinent Independent System Operator, Inc.

Description: § 205(d) Rate Filing: 2017-12-15_Resource Adequacy Construct Refiling to be effective 3/1/2018.

Filed Date: 12/15/17.

Accession Number: 20171215-5199.

Comments Due: 5 p.m. ET 1/5/18.

Docket Numbers: ER18-463-000.

Applicants: Midcontinent Independent System Operator, Inc., Ameren Transmission Company of Illinois.

Description: § 205(d) Rate Filing: 2017-12-15_ATXI Attachment O & MM Revisions for Transmission Rate Incentives to be effective 2/14/2018.

Filed Date: 12/15/17.

Accession Number: 20171215-5201.

Comments Due: 5 p.m. ET 1/5/18.

Docket Numbers: ER18-464-000.

Applicants: Public Service Company of New Mexico.

Description: Initial rate filing: Transmission Service Agreement between PNM and El Cabo Wind, LLC to be effective 11/29/2017.

Filed Date: 12/18/17.

Accession Number: 20171218-5057.

Comments Due: 5 p.m. ET 1/8/18.

Docket Numbers: ER18-465-000.

Applicants: Public Service Company of New Hampshire.

Description: Request for Limited Waiver of Public Service Company of New Hampshire.

Filed Date: 12/15/17.

Accession Number: 20171215-5227.

Comments Due: 5 p.m. ET 1/5/18.

Docket Numbers: ER18-466-000.

Applicants: NextEra Energy Marketing, LLC.

Description: Petition for Limited Waiver of NextEra Energy Marketing, LLC.

Filed Date: 12/15/17.

Accession Number: 20171215-5232.

Comments Due: 5 p.m. ET 1/5/18.

Docket Numbers: ER18-467-000.

Applicants: Southern California Edison Company.

Description: Tariff Cancellation: Notice of Cancellation of 5 FTSAs to be effective 1/1/2018.

Filed Date: 12/18/17.

Accession Number: 20171218-5121.

Comments Due: 5 p.m. ET 1/8/18.

Docket Numbers: ER18-468-000.

Applicants: Pacific Gas and Electric Company.

Description: § 205(d) Rate Filing: PG&E Llagas Energy Storage SGIA to be effective 12/19/2017.

Filed Date: 12/18/17.

Accession Number: 20171218-5166.

Comments Due: 5 p.m. ET 1/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2017.
Nathaniel J. Davis, Sr.,
Deputy Secretary.

[FR Doc. 2017-28199 Filed 12-28-17; 8:45 am]

BILLING CODE 6717-01-P